DEPARTMENT OF COMMERCE

International Trade Administration

[A-552-802, A-570-893]

Notice of Initiation of Administrative Reviews and Requests for Revocation in Part of the Antidumping Duty Orders on Certain Frozen Warmwater Shrimp From the Socialist Republic of Vietnam and the People's Republic of China

AGENCY: Import Administration, International Trade Administration, Department of Commerce.

SUMMARY: The Department of Commerce (“Department”) has received requests to conduct administrative reviews of the antidumping duty orders on certain frozen warmwater shrimp from the Socialist Republic of Vietnam (“Vietnam”) and the People's Republic of China (“PRC”). The Department received timely requests to revoke, in part, the antidumping duty order on shrimp from Vietnam for multiple producers/exporters.¹ The anniversary month of this order is February. In accordance with the Department's regulations, we are initiating these administrative reviews.

¹ These companies are: Camau Frozen Seafood Processing Import Export Corporation (“Camimex”), Grobest & I-Mei Industrial (Vietnam) Co., Ltd. (“Grobest”), and Phuong Nam Company Ltd. (“Phuong Nam”).

DATES: Effective Date: April 9, 2010.

FOR FURTHER INFORMATION CONTACT: Susan Pulongbarit and Jerry Huang (Vietnam) at (202) 482-4031 and (202) 482-4047, respectively, and Catherine Bertrand (PRC) at (202) 482-3207; AD/CVD Operations, Office 9, Import Administration, International Trade Administration, U.S. Department of Commerce, 14th Street and Constitution Avenue, NW., Washington, DC 20230.

SUPPLEMENTARY INFORMATION:

Background

The Department received timely requests, in accordance with 19 CFR 351.213(b), for administrative reviews of the antidumping duty orders on certain frozen warmwater shrimp from Vietnam and the PRC covering multiple entities. The Department is now initiating administrative reviews of these orders covering those entities.

Notice of No Sales

Under 19 CFR 351.213(d)(3), the Department may rescind a review where there are no exports, sales, or entries of subject merchandise during the respective period of review (“POR”) listed below. If a producer or exporter named in this notice of initiation had no exports, sales or entries during the POR, it should notify the Department within 30 days of publication of this notice in the Federal Register. The Department will consider rescinding the review only if the producer or exporter, as appropriate, submits a properly filed and timely statement certifying that it had no exports, sales or entries of subject merchandise during the POR. All submissions must be made in accordance with 19 CFR 351.303 and are subject to verification in accordance with section 782(i) of the Tariff Act of 1930, as amended (the “Act”). Six copies of the submission should be submitted to the Assistant Secretary for Import Administration, International Trade Administration, Room 1870, U.S. Department of Commerce, 14th Street and Constitution Avenue NW., Washington, DC 20230. Further, in accordance with 19 CFR 351.303(f)(1)(i), a copy of each request must be served on every party on the Department's service list.

Respondent Selection

In the event the Department limits the number of respondents for individual examination for administrative reviews, the Department intends to select respondents based on U.S. Customs and Border Protection (“CBP”) data for U.S. imports during the POR. We intend to release the CBP data under Administrative Protective Order (“APO”) to all parties having an APO within five days of publication of this initiation notice, and to make our decision regarding respondent selection within 20 days of publication of this Federal Register notice. The Department invites comments regarding the CBP data and respondent selection within 10 calendar days of publication of this Federal Register notice.

Separate Rates

In proceedings involving non-market economy (“NME”) countries, the Department begins with a rebuttable presumption that all companies within the country are subject to government control and thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by the Final Determination of Sales at Less Than Fair Value: Silicon Carbide from the People's Republic of China, 59 FR 22585 (May 2, 1994). In accordance with the separate-rates criteria, the Department assigns separate rates to companies in NME cases only if respondents can demonstrate the absence of both de jure and de facto government control over export activities.

All firms listed below that wish to qualify for separate-rate status in the antidumping duty administrative reviews of frozen warmwater shrimp from Vietnam and the PRC must timely file, as appropriate, either a separate-rate application or certification, as described below. In order to demonstrate separate-rate eligibility, entities for which a review was requested and which were assigned a separate rate in the most recently completed segment of this proceeding in which they participated, must timely file a separate rate certification that they continue to meet the criteria for obtaining a separate rate. The Separate Rate Certification form will be available on the Department's Web site at http://ia.ita.doc.gov/nme/nme-sep-rate.html on the date of publication of this notice in the Federal Register. In responding to the certification, please follow the “Instructions for Filing the Certification” in the Separate Rate Certification. Separate Rate Certifications must be received by the Department no later than 30 calendar days after publication of this notice in the Federal Register. The deadline and requirement for submitting the Separate Rate Certification applies equally to NME-owned firms, wholly foreign-owned firms, and foreign sellers who purchase and export subject merchandise to the United States.

Entities that currently do not have a separate rate from a completed segment of this proceeding,² must timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Application will be available on the Department's Web site at http://ia.ita.doc.gov/nme/nme-sep-rate.html on the date of publication of this notice in the Federal Register. In responding to the Separate Rate Application, refer to the instructions contained in the application. Separate Rate Applications must be received by the Department no later than 60 calendar days after publication of this notice in the Federal Register. The deadline and requirement for submitting a Separate Rate Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

Firms that submit a Separate Rate Application or a Separate Rate Certification that are subsequently selected as mandatory respondents will no longer be eligible for consideration of their separate-rate status unless they respond to all parts of the antidumping duty questionnaire as mandatory respondents.

Notification

This notice constitutes public notification to all firms for which an administrative review of frozen warmwater shrimp from Vietnam and the PRC has been requested and that are seeking separate rate status in that review, that they must submit a timely Separate Rate Application or Certification (as appropriate) as described above, in order to receive consideration for separate-rate status. The Department considers those entities that do not timely submit either a separate-rate application or certification, to be part of the country-wide entity and those entities will receive the country-wide rate. All information submitted by respondents in this administrative review is subject to verification. Please be advised that due to the time constraints imposed by the statutory and regulatory deadlines for antidumping duty administrative reviews, the Department may not grant any extensions of the deadlines for these submissions. As noted above, the Separate Rate Certification and the Separate Rate Application are available on the Department's web site on the date of publication of this notice in the Federal Register at the Web addresses noted above.

Initiation of Review

In accordance with 19 CFR 351.221(c)(1)(i), we are initiating administrative reviews of the antidumping duty orders on frozen warmwater shrimp from Vietnam and the PRC with respect to the following companies. We intend to issue the final results of these reviews no later than February 28, 2011.

| Period to be reviewed
Antidumping Duty Proceeding
Socialist Republic of Vietnam: ⁴ Frozen Warmwater Shrimp, A-552-802 | 02/01/2009-01/31/2010
• Agrex Saigon
• Amanda Foods (Vietnam) Ltd. (“Amanda Foods”)
• APL Logistics
• Aquatic Products Trading Company
• Bac Lieu Fisheries Company Limited
• Bac Lieu Fisheries Company Limited and/or Bac Lieu Fisheries Company Limited (“Bac Lieu”)
• Bac Lieu Fisheries Joint Stock Company (“Bac Lieu”)
• CP Livestock
• C.P. Vietnam Livestock Co., Ltd
• C.P. Vietnam Livestock Co., Ltd
• C.P. Vietnam Livestock Corporation
• Ca Mau Frozen Seafood Processing Import Export Corporation, or Camau Seafood Factory No. 4 (“CAMIMEX”) and/or Camau Frozen Seafood Processing Import Export Corporation (“CAMIMEX”)
• Ca Mau Seafood Joint Stock Company (“Seaprimexco Vietnam”)
• Ca Mau Seafood Joint Stock Company (“SEAPRIMEXCO”)
• Ca Mau Seaproducts Exploitation and Service Corporation (“SES”)
• Cadovimex Seafood Import-Export and Process Joint Stock Company (“CADOVIMEX”)
• Cadovimex Seafood Import-Export and Process Joint Stock Company (“Cadovimex-Vietnam”)
• Cadovimex Seafood Import-Export and Process Joint Stock Company (“CADOVIMEX”) and/or Cadovimex Seafood Import-Export and Process Joint Stock Company (“Cadovimex-Vietnam”)
• Cafatex Fishery Joint Stock Corporation (“Cafatex Corp.”)
• Cafatex Fishery Joint Stock Corporation (“Cafatex Corp.”) and/or Cafatex Fishery Joint Stock Corporation (“CAFATEX CORP.”)
• Cai Doi Vam Seafood Import-Export Company (Cadovimex)
• Cam Ranh Seafoods Processing Enterprise Company (“Camranh Seafoods”)
• Cam Ranh Seafoods Processing Enterprise Company (“Camranh Seafoods”) and/or Camranh Seafoods
• Camranh Seafoods Processing Enterprise Pte. (also known as Cam Ranh Seafoods Processing Enteprise Pte., Cam Ranh Seafoods Processing Enterprise Company, Cam Ranh Seafoods, and Camranh Seafoods) and its branch factory, Branch of Camranh Seafoods Processing Enterprise Pte.—Quang Ninh Export Aquatic Products Processing Factory (also known as Quang Ninh Seaproducts Factory) (collectively, “Camranh Seafoods”)
• Camau Frozen Seafood Processing Import Export Corporation (“Camimex”)
• Camau Frozen Seafood Processing Import Export Corporation, or Camau Seafood Factory No. 4 (“CAMIMEX”)
• Camau Seafood Fty
• Can Tho Agricultural and Animal Product Import Export Company (“CATACO”)
• Can Tho Agricultural Products
• Cantho Imp Expo Fishery Ltd
• Can Tho Agricultural and Animal Product Import Export Company (“CATACO”) and/or Can Tho Agricultural and Animal Products Import Export Company (“CATACO”)
• Can Tho Animal Fisheries Product Processing Export Enterprise (Cafatex)
• Can Tho Import Export Fishery Limited Company (“CAFISH”)
• Can Tho Seafood Exports
• Cautre Export Goods Processing Joint Stock Company
• Coastal Fishery Development
• Coastal Fisheries Development Corporation (Cofidec)
• Coastal Fisheries Development Corporation (Cofidec) and/or Coastal Fisheries Development Corporation (“COFIDEC”)
• Coastal Fisheries Development Corporation (“COFIDEC”)
• Cuu Long Seaproducts Limited (Cuu Long Seapro)
• Cuulong Seaproducts Company (“Cuulong Seapro”)
• Cuulong Seaproducts Company (“Cuu Long Seapro”) and/or Cuulong Seaproducts Company (“Cuulong Seapro”)
• D & N Foods Processing Danang
• Daewoo Apparel Vietnam
• Danang Seaproducts Import Export Corporation (“Seaprodex Danang”)
• Danang Seaproducts Import Export Corporation (“Seaprodex Danang”) and/or Danang Seaproducts Import Export Corporation (and its affiliates) (“Seaprodex Danang”)
• Danang Seaproducts Import Export Corporation (and its affiliate, Tho Quang Seafood Processing and Export Company) (collectively “Seaprodex Danang”)
• Frozen Seafoods Factory No. 32
• Frozen Seafoods Factory No. 32 and/or Frozen Seafoods Fty
• Gallant Ocean Vietnam
• Grobest & I-Mei Industry Vietnam
• Grobest & I-Mei Industrial (Vietnam) Co., Ltd
• Grobest & I-Mei Industrial (Vietnam) Co., Ltd. (“Grobest”)
• Hai Thanh Food Company Ltd
• Hai Viet Corporation (“HAVICO”)
• Hai Vuong Co., Ltd
• Hanoi Seaproducts Import Export Corporation (“Seaprodex Hanoi”)
• Hatrang Frozen Seaproduct Fty
• Investment Commerce Fisheries Corporation (“Incomfish”) and/or Investment Commerce Fisheries Corporation (“INCOMFISH”)
• Investment Commerce Fisheries Corporation (“Incomfish”)
• Investment Commerce Fisheries Corporation (“Incomfish Corp.”)
• Kaier Furniture (Vietnam) Co., Ltd
• Khanh Loi Production and Trading Co
• Kien Cuong Seafood
• Kien Gan Seaproduct Import and Export Company (“KISIMEX”)
• Kien Long Seafoods
• Kim Anh Co., Ltd
• Kim Anh Company Ltd. (“Kim Anh”)
• Kim Do Wood Production
• Lode Star Co., Ltd
• Minh Hai Export Frozen Seafood Processing Joint Stock Company
• Minh Hai Export Frozen Seafood Processing Joint Stock Company (“Minh Hai Jostoco”)
• Minh Hai Export Frozen Seafood Processing Joint Stock Company (“Minh Hai Jostoco”) and/or Minh Hai Export Frozen Seafood Processing Joint-Stock Company (“Minh Hai Jostoco”)
• Minh Hai Joint-Stock Seafoods Processing Company (“Seaprodex Minh Hai”)
• Minh Hai Joint-Stock Seafoods Processing Company (“Seaprodex Minh Hai”) and/or Minh Hai Joint-Stock Seafoods Processing Company (“Sea Minh Hai”)
• Minh Hai Sea Products Import Export Company (Seaprimex Co)
• Minh Phat Seafood and/or Minh Phat Seafood Co., Ltd
• Minh Phu Seafood Corp
• Minh Phu Seafood Corporation
• Minh Phu Seafood Corporation (and its affiliates Minh Qui Seafood Co., Ltd. and Minh Phat Seafood Co., Ltd.) (collectively “Minh Phu Group”)
• Minh Phu Seafood Export Import Corporation (and affiliates Minh Qui Seafood Co., Ltd. and Minh Phat Seafood Co., Ltd.)
• Minh Phu Seafood Export Import Corporation (and affiliates Minh Qui Seafood Co., Ltd. and Minh Phat Seafood Co., Ltd.) and/or Minh Phu Seafood Export Import Corporation (and affiliates Minh Qui Seafood Co., Ltd. and Minh Phat Seafood Co., Ltd.) (collectively “Minh Phu Group”)
• Minh Qui Seafood Co., Ltd
• Nam Hai
• Ngoc Sinh Private Enterprise
• Ngoc Sinh Seafoods
• Nha Trang Fisheries Joint Stock Company (“Nha Trang Fisco”)
• Nha Trang Fisheries Joint Stock Company (“Nha Trang Fisco”) and/or Nha Trang Fisheries Joint Stock Company (“Nha Trang FISCO”)
• Nha Trang Seaproduct Company (“Nha Trang Seafoods”)
• Nha Trang Seaproduct Company (“Nha Trang Seafoods”) and/or Nha Trang Seaproduct Company “NHA TRANG SEAFOODS”)
• Nhat Duc Co., Ltd
• Nhat Duc Co., Ltd. (“Nhat Duc”)
• Nyd Co., Ltd
• Orange Fashion
• Pataya Food Industry (Vietnam) Ltd
• Phu Cuong Seafood Processing & Import-Export Co., Ltd. (aka Phu Cuong Jostoco Seafood Corporation, Phu Cuong Jostoco Corp. or Phu Cuong Seafood Processing Import-Export Company Limited)
• Phu Cuong Seafood Processing and Import-Export Co., Ltd
• Phu Cuong Seafood Processing and Import-Export Co., Ltd. and/or Phu Cuong Seafood Processing & Import-Export Co., Ltd
• Phu Thuan Corporation
• Phuong Nam Co. Ltd
• Phuong Nam Company, Ltd. (“Phuong Nam”)
• Phuong Nam Seafood Co., Ltd
• Quoc Viet Seaproducts Processing Trading Import and Export Co., Ltd
• S.R.V. Freight Services Co., Ltd
• Sao Ta Foods Joint Stock Company (“Fimex VN”)
• Sao Ta Foods Joint Stock Company (“FIMEX VN”)
• Sao Ta Foods Joint Stock Company (“Fimex VN”) and/or Sao Ta Foods Joint Stock Company (“FIMEX”)
• Seafoods and Foodstuff Factory Vietnam
• Seaprimexco Vietnam
• Seaprodex Danang
• Seaprodex Minh Hai
• Sea Product
• Soc Trang Aquatic Products and General Import Export Company (“Stapimex”)
• Soc Trang Aquatic Products and General Import Export Company (“Stapimex”) and/or Soc Trang Aquatic Products and General Import-Export Company (“STAPIMEX”)
• Soc Trang Seafood Joint Stock Company (“STAPIMEX”)
• Song Huong ASC Import-Export Company Ltd
• Song Huong ASC Joint Stock Company
• Sustainable Seafood
• Tan Thanh Loi Frozen Food Co., Ltd
• Tecapro Co. (Tacbest Factory)
• Thanh Hung Co., Ltd
• Tho Quang Seafood Processing & Export Company
• Thuan Phuoc Seafoods and Trading Corporation
• Thuan Phuoc Seafoods and Trading Corporation and its separate factories Frozen Seafoods Factory No. 32, Seafoods and Foodstuff Factory, and My Son Seafoods Factory (collectively “Thuan Phuoc Corp.”)
• Thuan Phuoc Seafoods and Trading Corporation and/or Thuan Phuoc Seafoods and Trading Corporation and/or Thuan Phuoc Seafoods and Trading Corporation (and its affiliates)
• Tien Tien Garment Joint Stock Company
• Tithi Co., Ltd
• UTXI Aquatic Products Processing Company
• UTXI Aquatic Products Processing Corporation
• Vien Thang Pte Co., Ltd
• Viet Hai Seafood Co., Ltd. a/k/a Vietnam Fish One Co., Ltd. (“Fish One”)
• Viet Hai Seafoods Company Ltd. (“Vietnam Fish One Co. Ltd.”)
• Viet Hai Seafoods Company Ltd. (Vietnam Fish One)
• Viet Foods Co., Ltd
• Viet Foods Co., Ltd. (“Viet Foods”)
• Viet Nhan Company
• Vietnam Fish One Co., Ltd
• Vietnam Northern Viking Technology Co., Ltd
• Vilfood Co
• Vina Atm Co., Ltd
• Vinatex Danang
• Vinh An Co., Ltd
• Vinh Hoan Co., Ltd
• Vinh Loi Import Export Company (“VIMEX”)
• Vinh Loi Import Export Company (“Vimexco”)
• Vinh Loi Import Export Company (“Vimexco”) and/or Vinh Loi Import Export Company (“VIMEX”)
People's Republic of China: 5 6 7 Frozen Warmwater Shrimp A-570-893 | 02/01/2009—01/31/2010
• Allied Pacific Aquatic Products Zhanjiang Co Ltd
• Allied Pacific Food (Dalian) Co., Ltd
• Asian Seafoods (Zhanjiang) Co., Ltd
• Beautiful Lighting Co., Ltd
• Beihai Qinguo Frozen Foods Co., Ltd
• Capital Prospect
• Century Distribution Systems (Shenz)
• Dafu Foods Industry
• Daishan Baofa Aquatic Product Co
• Elaite Group Co., Ltd
• Everflow Ind. Supply
• Flags Wins Trading Co., Ltd
• Fuchang Aquatic Products
• Fujian Haiding Global Foods
• Fujian Provincial Meihua Aquat
• Fuqing Maowang Seafood Development
• Fuqing Minhua Trade Co., Ltd
• Fuqing Xuhu Aquatic Food Trdg
• Fuqing Yihua Aquatic Food Co., Ltd
• Fuqing Yihua Aquatic Food Co., Ltd. and/or Fuqing Yihua Aquatic Products Co., Ltd
• Gallant Ocean (Nanhai), Ltd
• Geelong Sales
• Guangdong Jiahuang Foods
• Guangdong Jinhang Foods Co., Ltd
• Guangdong Wanya Foods Fty. Co., Ltd
• Hai Li Aquatic Co., Ltd
• Hainan Hailisheng Food Co., Ltd
• Hainan Seaberry Seafoods
• Hainan Siyuan Foods Co., Ltd
• Hainan Zhongyu Seafood Co., Ltd
• Hilltop International
• Huasheng Aquatic Pro. Factory
• Huian County Import & Export and Trading Co
• Innovative Aluminum
• Intecs Service
• Jet Power International Ltd
• JetStar Co
• Leizhou Yunyuan Aquatic Products Co., Ltd
• Liang Hsin Lighting Shenzhen
• Maoming Changxing Foods
• Maoming Jiahui Foods Co., Ltd
• New Peak Service
• North Seafood Group Co
• Panasonic Mfg. Xiamen Co
• Phoenix Intl
• Regal Marine Resources Co., Ltd
• Rizhao Smart Foods
• Ruian Huasheng Aquatic Products Fac
• Savvy Seafood Inc
• Sea Trade International Inc
• Second Aquatic Food
• Shandong Huashijia Foods
• Shanghai Apa International Trading
• Shanghai Smiling Food Co., Ltd
• Shantou Jin Cheng Food Co
• Shantou Longfen Foodstuff Co
• Shantou Longsheng Aquatic Product Foodstuff Co., Ltd
• Shantou Longsheng Aquatic Product
• Shantou Red Garden Foodstuff Co., Ltd. and/or Shantou Red Garden Food Processing Co., Ltd
• Shantou Wanya Foods Fty. Co., Ltd. (Branch Factory)
• Shantou Xinwanya Aquatic Product Ltd
• Shantou Yelin Frozen Seafood Co., Ltd
• Shantou Yue Xiang Commercial Trading Co., Ltd
• Shenzhen Pingyue Trading Co., Ltd
• SLK Hardware
• Thai Royal Frozen Food Zhanjiang Co., Ltd
• Sysgration
• Tianjin Dongjiang Food Co., Ltd
• Tongwei Hainan Aquatic Products Co., Ltd
• Top One Intl
• Wenling Xingdi Aquatic Product
• Yangcheng Seahorse Foods
• Yangjiang City Yelin Hoitat Quick Frozen Seafood Co., Ltd
• Yangjiang Wanshida Seafood Co., Ltd
• Zhangjiang Bo Bo Go Ocean
• Zhanjiang Evergreen Aquatic Products
• Zhanjiang Fuchang Aquatic Product Freezing Plant
• Zhanjiang Go-harvest Aquatic Products Co., Ltd
• Zhanjiang Haizhou Aquatic Product
• Zhanjiang Huibaoye Trading Co., Ltd
• Zhanjiang Jebshin Seafood
• Zhanjiang Jinguo Marine Foods Company Limited
• Zhanjiang Longwei Aquatic Product
• Zhanjiang Regal Integrated Marine Resources Co., Ltd
• Zhanjiang Regal Integrated Marine Resources
• Zhejiang Daishan Baofa Aquatic Products Co., Ltd
• Zhejiang Industrial Group Co., Ltd
• Zhj Jinguo Marine Foods
• Zhoushan Corp. for Intl. Economic and Technical Cooperation
• Zhoushan Haohai Aquatic Products
• Zhoushan Putuo Huafa Sea Products Co., Ltd
• Zhoushan Qiangren Imp. & Exp

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

⁴ If one of the below named companies does not qualify for a separate rate, all other exporters of shrimp from Vietnam who have not qualified for a separate rate are deemed to be covered by this review as part of the single Vietnam-wide entity of which the named exporters are a part.

⁵ If one of the below named companies does not qualify for a separate rate, all other exporters of shrimp from the PRC who have not qualified for a separate rate are deemed to be covered by this review as part of the single PRC-wide entity of which the named exporters are a part.

⁶ Some companies appear to be listed twice, but, because there were multiple addresses provided in the administrative review requests for similarly named companies, we are listing them separately.

⁷ Domestic producers requested a review of Zhanjiang Goulian Aquatic Products Co., Ltd. The Department confirmed with Domestic Producers that this name was misspelled in their administrative review request. See ``Memorandum to the File, from Irene Gorelik, Senior Analyst, dated March 24, 2010.'' We note that Zhanjiang Guolian Aquatic Products Co., Ltd. was excluded from the antidumping duty order. See Notice of Amended Final Determination of Sales at Less Than Fair Value and Antidumping Duty Order: Certain Frozen Warmwater Shrimp From the People's Republic of China, 70 FR 5149 (February 1, 2005). Therefore, since this company was excluded from the order, we are not initiating an administrative review for Zhanjiang Guolian Aquatic Products Co., Ltd.

Interested parties must submit applications for disclosure under administrative protective orders in accordance with 19 CFR 351.305. On January 22, 2008, the Department published in the Federal Register the following document: Antidumping and Countervailing Duty Proceedings: Documents Submission Procedures; APO Procedures, 73 FR 3634 (January 22, 2008). Those procedures apply to the antidumping duty administrative reviews of frozen warmwater shrimp from Vietnam and the PRC being initiated through this notice. Parties who wish to participate in the antidumping duty administrative reviews of frozen warmwater shrimp from Vietnam and the PRC should ensure that they meet the requirements in these procedures (e.g., the filing of separate letters of appearance as discussed in 19 CFR 351.103(d)).

This initiation and notice are in accordance with section 751(a) of the Act (19 U.S.C. 1675(a)), and 19 CFR 351.221(c)(1)(i). Pursuant to 19 CFR 351.221(c)(1)(i), the Department will publish the notice of initiation of administrative reviews no later than the last day of the month following the anniversary month of the order.

Dated: April 5, 2010.
John M. Andersen,
Acting Deputy Assistant Secretary for Antidumping and Countervailing Duty Operations.

[FR Doc. 2010-8155 Filed 4-8-10; 8:45 am]

BILLING CODE 3510-DS-P